DEPARTMENT OF TRANSPORTATION

Federal Aviation Administration

14 CFR Part 71

[Docket FAA 2005-20248; Airspace Docket 05-AWP-13]

Established Class D Airspace; Front Range Airport, Denver, CO

AGENCY: Federal Aviation Administration (FAA), DOT.

ACTION: Final rule; correction.

SUMMARY: This action corrects an error in the altitude description of a final rule that was published in the Federal Register on June 28, 2005, (70 FR 37028), Airspace Docket No. 05-AWP-1.

EFFECTIVE DATE: 0901 UTC, February 16, 2006.

FOR FURTHER INFORMATION CONTACT: Larry Tonish, Federal Aviation Administration, Western Terminal Operations, 15000 Aviation Boulevard, Lawndale, CA 90261; telephone (310) 725-6539.

SUPPLEMENTARY INFORMATION:

History

On June 28, 2005, Airspace Docket No. 05-AWP-1 was published in Federal Register (70 FR 37028), establishing Class D airspace at Front Range Airport, Denver, CO. In that rule, the airspace altitude description was not correct. This action corrects that error.

Correction to Final Rule

Accordingly, pursuant to the authority delegated to me, the legal description for the airspace altitude for Class D airspace at Front Range Airport, Denver, CO, as published in the Federal Register on June 28, 2005, (70 FR 37028), and incorporated by reference in 14 CFR 71.1, is corrected as follows:

PART 71—[AMENDED]

§ 71.1 [Amended]

The incorporation by reference in 14 CFR part 71.1 of the Federal Aviation Administration Order 7400.9N, Airspace Designations and Reporting Points, dated September 1, 2005, and effective September 15, 2005, is amended as follows:

Paragraph 5000 Class D Airspace area extending upward from the surface of the earth.

* * * * *

ANM COD Front Range Airport, Denver, CO [NEW]

Front Range Airport, Denver, CO

(Lat. 39°47′07″ N, long. 104°32′35″ W)

That airspace extending upward from the surface to but not including 8,000 feet MSL within a 5.1 nautical mile radius of the Front Range Airport, Denver, CO, excluding the Denver International Airport Class B. This Class D airspace area is effective during the specific days and times established in advance by a Notice to Airmen. The effective days and times will thereafter be continuously published in the Airport/Facility Directory.

* * * * *

Issued in Los Angeles, California on November 18, 2005.
Tony DiBernardo,
Acting Area Director, Western Terminal Operations.

[FR Doc. 05-23756 Filed 12-7-05; 8:45 am]

BILLING CODE 4910-13-M